DEPARTMENT OF TRANSPORTATION

Federal Highway Administration

Environmental Impact Statement: Juneau, AK

AGENCY: Federal Highway Administration (FHWA), Alaska Department of Transportation and Public Facilities (ADOT&PF).

ACTION: Notice of intent.

SUMMARY: The FHWA is issuing this notice to advise the public than an environmental impact statement will be prepared for a second crossing of the Gastineau Channel in Juneau, Alaska. Scoping meetings for the Juneau Second Channel Crossing project will be held in Juneau, Alaska during November 2003.

FOR FURTHER INFORMATION CONTACT: Tim Haugh, Environment/Right-of-Way Programs Manager, Federal Highway Administration, P.O. Box 21648, Juneau, Alaska 99802, (907) 586-7430.

SUPPLEMENTARY INFORMATION: The FHWA, in cooperation with the Alaska Department of Transportation and Public Facilities (ADOT&PF) and the City and Borough of Juneau (CBJ), will prepare an EIS for a proposed second crossing of the Gastineau Channel in Juneau, Alaska. The proposed Juneau Second Channel Crossing project would involve a new crossing from mainland Juneau to Douglas Island. The project study area includes an approximate nine-mile segment of the Gastineau Channel, from the vicinity of Salmon Creek to the vicinity of the Mendenhall Peninsula/North Douglas Island. Alternatives would vary by location and would include different bridge types that are estimated to be from approximately 0.5 to 1.5 miles in length.

Alternatives have yet to be developed for the project. Any bridge crossing alternatives will meet the reasonable needs of navigation for the Gastineau Channel. The No-build alternative will remain a viable alternative throughout the EIS process. The Second Crossing is considered necessary to: meet the expressed planning intent of the CBJ to facilitate existing and planned development of the CBJ designated “New Growth Area” on West Douglas Island in accordance with the CBJ Comprehensive Plan; and to improve transportation network connectivity and access for emergency response.

Letters describing the proposed action and soliciting comments will be sent to appropriate Federal, State, and local agencies, and to private organizations and citizens who have previously expressed or are known to have interest in the proposal. A series of agency and public meetings will be held in Juneau, Alaska throughout the EIS study process. In addition, a public hearing will be held. Public notice will be given of the time and place of the meetings and hearing. The draft EIS will be made available for public and agency review and comment prior to the public hearing. A formal agency scoping meeting and public scoping meetings are planned in Juneau, Alaska during November 2003.

To ensure that the full range of issues related to this proposed action are addressed and all significant issues identified, comments, and suggestions are invited from all interested parties. Comments or questions concerning this proposed action and the EIS should be directed to the FHWA at the address above.

(Catalog of Federal Domestic Assistance Program Number 20.205, Highway Research, Planning and Construction. The regulations implementing Executive Order 12372 regarding intergovernmental consultation on Federal programs and activities apply to this program.)

Issued on October 10, 2003.
Tim A. Haugh,
Environment and Right-of-Way Programs Manager, Juneau, Alaska.

[FR Doc. 03-26437 Filed 10-20-03; 8:45 am]

BILLING CODE 4910-22-M